DEPARTMENT OF THE INTERIOR

Bureau of Reclamation

Cachuma Lake Resource Management Plan (RMP), Santa Barbara County, CA

AGENCY: Bureau of Reclamation, Interior.

ACTION: Notice of availability of the draft Environmental Impact Statement (EIS) and notice of public hearing.

SUMMARY: The Bureau of Reclamation (Reclamation), as the National Environmental Policy Act Federal lead agency, has made available for public review and comment the Cachuma Lake draft EIS. The draft EIS describes and presents the effects of the No-Action Alternative and two (2) Action Alternatives on the development and management of the Plan Area. A public hearing will be held to receive comments from individuals and organizations on the draft EIS.

DATES: Written comments on the draft EIS will be accepted on or before September 23, 2008.

A public hearing has been scheduled to receive oral or written comments regarding environmental effects. The hearing will be held from 6:30 p.m. to 9 p.m. on August 26, 2008, in Solvang, CA.

ADDRESSES: Send written comments on the draft EIS to Mr. Robert Epperson, Bureau of Reclamation, 1243 N Street, Fresno, CA 93721. The public hearing will be held at the Veterans Memorial Hall, 1745 Mission Drive, Solvang, CA 93463.

Copies of the draft EIS may be requested from Mr. Robert Epperson, by writing to Bureau of Reclamation, 1243 N Street, Fresno CA 93721; by calling 559-269-4518 (TDD 559-487-5933); or by e-mailing repperson@mp.usbr.gov. The draft EIS is also accessible from the following Web site: http://www.usbr.gov/mp/cachuma/docs/index.html. See SUPPLEMENTARY INFORMATION Section for locations where copies of the draft EIS are available for public review.

FOR FURTHER INFORMATION CONTACT: Mr. Robert Epperson, Bureau of Reclamation, at 559-269-4518 (TDD 559-487-5933) or repperson@mp.usbr.gov.

SUPPLEMENTARY INFORMATION: The draft EIS documents the direct, indirect, and cumulative effects to the physical, biological, and socioeconomic environment that may result from various resource management alternatives at Cachuma Lake.

The Cachuma Lake draft EIS evaluates the existing resource management of Cachuma Lake. The project purpose consists of: (1) Protecting the water supply and water quality functions of Cachuma Lake; (2) protecting and enhancing natural and cultural resources in the Recreation Area, consistent with Federal law and Reclamation policies; and (3) providing recreational opportunities and facilities consistent with the original Cachuma Project purposes, and Reclamation policies.

Cachuma Lake is an existing reservoir formed by Bradbury Dam, and located in Santa Barbara County, California. The dam, which provides irrigation, domestic, and municipal and industrial water supplies to the City of Santa Barbara, Goleta Water District, Montecito Water District, Carpinteria Valley Water District, and Santa Ynez River Water Conservation District, was constructed in the 1950s. The Cachuma Project has delivered an average of 25,000 acre-feet per year over the past 45 years and encompasses approximately 9,250 acres. In 1956, operation and maintenance of the Cachuma project was transferred from Reclamation to the Cachuma Operation and Maintenance Board. Reclamation still retains ownership of all project facilities and is responsible for the operation of the dam.

The new RMP will have a planning horizon of 20 years, which will begin when a new agreement is reached between Reclamation and a local managing partner. The new RMP would (1) Ensure timely delivery of high-quality water to water users while enhancing natural resources and recreational opportunities; (2) provide recreational opportunities to meet the demands of a growing, diverse population; (3) ensure recreational diversity and the quality of the experience; (4) protect natural resources, while providing resource education opportunities and stewardship; and (5) provide updated management for establishing a new management agreement with a managing partner.

The draft EIS outlines the formulation and evaluation of alternatives designed to address issues through a representation of the varied interests at the Plan Area. Alternative 1 (No Action) would continue current management practices. Alternative 2 (Enhanced Recreation) would balance natural resource protection with recreational opportunities. Alternative 3 (Expanded Recreation) would emphasize expanded recreation opportunities.

The draft EIS has been developed within the authorities provided by Congress through the Reclamation Recreation Management Act of 1992 (Pub. L. 102-575, Title 28, 16 U.S.C. 460L), Reclamation Act, Federal Water Project Recreation Act, and other applicable Federal agency and U.S. Department of the Interior policies.

Copies of the draft EIS are available for public review at the following locations:

• Bureau of Reclamation, Mid-Pacific Region, Regional Library, 2800 Cottage Way, Sacramento, CA 95825.

• Bureau of Reclamation, South-Central California Area Office, 1243 N Street, Fresno CA 93721.

• Cachuma Lake State Recreation Area, Highway 154, Santa Barbara, CA 93105.

• Santa Maria Public Library, 420 South Broadway Avenue, Santa Maria, CA 93454.

• Santa Barbara Public Library, Central Location, 40 East Anapamu Street, Santa Barbara, CA 93101.

• Bureau of Reclamation, Denver Office Library, Building 67, Room 167, Denver Federal Center, 6th and Kipling, Denver, CO 80225.

• Natural Resources Library, U.S. Department of the Interior, 1849 C Street NW., Main Interior Building, Washington, DC 20240-0001.

Public Hearings

A brief presentation, including a project overview, will open the public hearing. This will be followed by an open house during which individual concerns and questions will be addressed through interaction with the project team.

If special assistance is required at the public hearings, please contact Mr. Robert Epperson at 559-269-4518, (TDD 559-487-5933) or by e-mailing repperson@mp.usbr.gov. Please notify Mr. Epperson as far in advance as possible to enable Reclamation to secure the needed services. If a request cannot be honored, the requestor will be notified.

Public Disclosure

Before including your name, address, phone number, e-mail address, or other personal identifying information in your comment, you should be aware that your entire comment including your personal identifying information—may be made publicly available at any time. While you can ask us in your comment to withhold your personal identifying information from public review, we cannot guarantee that we will be able to do so.

Dated: July 3, 2008.
John F. Davis,
Deputy Regional Director, Mid-Pacific Region.

[FR Doc. E8-17072 Filed 7-24-08; 8:45 am]

BILLING CODE 4310-MN-P